DEPARTMENT OF AGRICULTURE

Animal and Plant Health Inspection Service

[Docket No. APHIS-2007-0118]

Imported Fire Ant; Availability of a Final Environmental Assessment and Finding of No Significant Impact

AGENCY: Animal and Plant Health Inspection Service, USDA.

ACTION: Notice.

SUMMARY: We are advising the public that a final environmental assessment and finding of no significant impact have been prepared by the Animal and Plant Health Inspection Service relative to the release into areas quarantined for imported fire ant of five additional species of phorid flies for use as biological control agents. The final environmental assessment documents our review and analysis of environmental impacts associated with, and alternatives to, the release of these biological control agents. Based on its finding of no significant impact, the Animal and Plant Health Inspection Service has determined that an environmental impact statement need not be prepared.

FOR FURTHER INFORMATION CONTACT: Mr. Charles L. Brown, Imported Fire Ant Quarantine Program Manager, Pest Detection and Management Programs, PPQ, APHIS, 4700 River Road, Unit 134, Riverdale, MD 20737-1236; (301) 734-4838.

SUPPLEMENTARY INFORMATION:

Background

The imported fire ant (Solenopsis invicta Buren, Solenopsis richteri Forel, and hybrids of these species) is an aggressive, stinging insect that, in large numbers, can seriously injure and even kill livestock, pets, and humans. The imported fire ant, which is not native to the United States, feeds on crops and builds large, hard mounds that damage farm and field machinery. The imported fire ant regulations (contained in 7 CFR 301.81 through 301.81-10 and referred to below as the regulations) are intended to prevent the imported fire ant from spreading throughout its ecological range within the country. The regulations quarantine infested States or infested areas within States and restrict the interstate movement of regulated articles to prevent the artificial spread of the imported fire ant.

In addition to the movement restrictions in the regulations, the Animal and Plant Health Inspection Service (APHIS) and its State cooperators release three species of phorid flies (Pseudacteon species), a natural enemy of the imported fire ant, into quarantined areas. These flies parasitize the imported fire ant, killing those that are parasitized. Those ants that are not parasitized are affected behaviorally by the presence of the flies because their presence reduces fire ant foraging. A decrease in foraging activity facilitates competition from native fire ants that might otherwise be excluded from food sources in fire ant territory.

On November 13, 2007, we published in the Federal Register (72 FR 63874, Docket No. APHIS-2007-0118) a notice ¹ in which we announced the availability for review and comment of a draft environmental assessment, entitled “Field Release of Phorid Flies (Pseudacteon species) for the Biological Control of Imported Fire Ants” (July 2007), that examined the potential environmental impacts associated with releasing five additional species of phorid flies into areas quarantined for imported fire ant within the Commonwealth of Puerto Rico and the following States: Alabama, Arkansas, California, Florida, Georgia, Louisiana, Mississippi, New Mexico, North Carolina, Oklahoma, South Carolina, Tennessee, and Texas.

¹ To view the notice, the environmental assessment, the finding of no significant impact, and the comment we received, go to http://www.regulations.gov/fdmspublic/component/main?main=DocketDetail&d=APHIS-2007-0118.

We solicited comments on the draft environmental assessment for 30 days ending December 13, 2007. We received one comment by that date, from a private citizen, but the commenter did not address the action examined in the assessment (namely, the release of the additional species of phorid flies).

In this document, we are advising the public of our decision and finding of no significant impact regarding the release of five additional species of phorid flies for the biological control of imported fire ants. Accordingly, we are also advising the public that we have adopted the draft environmental assessment, without change, as a final environmental assessment entitled “Field Release of Phorid Flies (Pseudacteon species) for the Biological Control of Imported Fire Ants” (January 2008).

The final environmental assessment and finding of no significant impact may be viewed on the Regulations.gov Web site ² or in our reading room at USDA, Room 1141, South Building, 14th Street and Independence Ave., SW., Washington, DC, between 8 a.m. and 4:30 p.m., Monday through Friday, excluding holidays. Persons wishing to view the final environmental assessment and finding of no significant impact are requested to call ahead on (202) 690-2817 to facilitate entry into the reading room. You may request paper copies of the final environmental assessment and finding of no significant impact by calling or writing to the person listed under FOR FURTHER INFORMATION CONTACT. Please refer to the title of the final environmental assessment when requesting copies.

² See footnote 1.

The final environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 22nd day of February 2008.
Kevin Shea,
Acting Administrator, Animal and Plant Health Inspection Service.

[FR Doc. E8-3809 Filed 2-27-08; 8:45 am]

BILLING CODE 3410-34-P